FEDERAL RESERVE SYSTEM

Agency Information Collection Activities: Announcement of Board Approval Under Delegated Authority and Submission to OMB

AGENCY: Board of Governors of the Federal Reserve System

SUMMARY: Background. Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -- Michelle Shore -- Division of Research and Statistics, Board of Governors of the Federal Reserve System, Washington, DC 20551 (202-452-3829).

OMB Desk Officer -- Mark Menchik -- Office of Information and Regulatory Affairs, Office of Management and Budget, New Executive Office Building, Room 10235, Washington, DC 20503, or e-mail to mmenchik@omb.eop.gov.

Final approval under OMB delegated authority of the extension for three years, without revision, of the following report:

Report title: Written Security Program for State Member Banks

Agency form number: FR 4004

OMB Control number: 7100-0112

Frequency: On occasion

Reporters: State member banks

Annual reporting hours: 35 hours

Estimated average hours per response: 0.5 hours

Number of respondents: 70

General description of report: This recordkeeping requirement is mandatory pursuant to section 3 of the Bank Protection Act [12 U.S.C. § 1882(a)] and Regulation H [12 C.F.R. § 208.61]. Because written security programs are maintained at state member banks, no issue of confidentiality under the Freedom of Information Act normally arises. However, copies of such documents included in examination work papers would, in such form, be confidential pursuant to exemption 8 of the Freedom of Information Act [5 U.S.C. § 552(b)(8)].

Abstract: Each state member bank must develop and implement a written security program and maintain it in the bank's records. This program should include a requirement to install security devices and should establish procedures that satisfy minimum standards in the regulation, with the security officer determining the need for additional security devices and procedures based on the location of the banking office. There is no formal reporting form and the information is not submitted to the Federal Reserve.

Current Actions: On December 4, 2006, the Federal Reserve published a notice in the Federal Register (71 FR 70392) requesting public comment for 60 days on the extension, without revision, of the Written Security Program for State Member Banks. The comment period for this notice expired on February 2, 2007. The Federal Reserve did not receive any comments.

Board of Governors of the Federal Reserve System, February 8, 2007.
Jennifer J. Johnson
Secretary of the Board

[FR Doc. E7-2484 Filed 2-13-07; 8:45 am]

BILLING CODE 6210-01-S